ENVIRONMENTAL PROTECTION AGENCY

[EPA-HQ-OECA-2005-0048; FRL-8008-7]

Agency Information Collection Activities; Submission for OMB Review and Approval; Comment Request; NESHAP for Wet-formed Fiberglass Mat Production (Renewal); ICR Number 1964.03; OMB Number 2060-0496

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on December 31, 2005. Under OMB regulations, the Agency may continue to conduct or sponsor the collection of information while this submission is pending at OMB. This ICR describes the nature of the information collection and its estimated burden and cost.

DATES: Additional comments may be submitted on or before January 17, 2006.

ADDRESSES: Submit your comments, referencing docket ID number EPA-HQ-OECA-2005-0048, to (1) EPA online using http://www.regulations.gov (our preferred method), by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID No. EPA-HQ-OECA-2005-0048, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available at http://www.regulations.gov. Use http://www.regulations.gov to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in http://www.regulations.gov as EPA receives them and without change, unless the comment contains copyrighted material, Confidential Business Information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, go to http://www.regulations.gov.

Title: NESHAP for Wet-formed Fiberglass Mat Production (Renewal).

Abstract: The National Emission Standards for Hazardous Air Pollutants (NESHAP) for Wet-formed Fiberglass Mat Production were proposed on May 26, 2000 (65 FR 34251), and promulgated on April 11, 2002 (67 FR 17823). These standards apply to new and existing component processes at industrial facilities that manufacture wet-formed fiberglass mat including preparation of glass fibers, formation of fibers into a fiberglass mat, saturation with urea-formaldehyde binder solution, curing and drying the binder-coated fiberglass mat, cooling the mat, and trimming, cutting, and packaging. This information is being collected to assure compliance with 40 CFR part 63, subpart HHHH.

The monitoring, recordkeeping, and reporting requirements outlined in these rules are similar to those required for other NESHAP regulations. Consistent with the NESHAP General Provisions (40 CFR part 63, subpart A), respondents are required to submit initial notifications, conduct performance tests, and submit semiannual reports. They are also required to maintain records of applicability determinations; performance test results; exceedances; periods of startup, shutdown, or malfunction; monitoring records; and all other information needed to determine compliance with the applicable standard.

An owner or operator subject to the provisions of this part shall maintain a file of these measurements, and retain the file for at least five years following the date of such measurements, maintenance reports, and records. Records and reports must be retained for a total of 5 years, two years on-site. The files may be maintained on microfilm, on a computer or floppy disks, on magnetic tape disks, or on microfiche. All reports are sent to the delegated state or local authority. In the event that there is no such delegated authority, the reports are sent directly to the United States Environmental Protection Agency (EPA) regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 61 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of wet-formed fiberglass mats.

Estimated Number of Respondents: 14.

Frequency of Response: Initial, semiannual and on occasion.

Estimated Total Annual Hour Burden: 1,966 hours.

Estimated Total Annual Costs: $158,672, which includes $0 Capital Expense/ startup costs, $0 Operation and Maintenance costs, and $158,672 in Respondent Labor costs.

Changes in the Estimates: The decrease in labor burden to industry from the most recently approved ICR from 2,983 hours to 1,966 hours is due to the assumptions that existing sources are in compliance with the initial rule requirements and that there will be no new lines constructed over the three-year period of this ICR.

The total annualized capital and operations and maintenance costs decreased from $2,000 to none due to the lack of capital/startup costs associated with new sources purchasing continuous emission monitoring equipment.

There was also an increase in labor rates for both industry and the Federal Government; however, it did not offset the reduction in labor burden described above.

Dated: December 5, 2005.
Oscar Morales,
Director, Collection Strategies Division.

[FR Doc. 05-24075 Filed 12-14-05; 8:45 am]

BILLING CODE 6560-50-P